SMALL BUSINESS ADMINISTRATION

Revocation of License of Small Business Investment Company

Pursuant to the authority granted to the United States Small Business Administration by the Final Order of the United States District Court for the Southern District of New York, dated April 5, 2005, in Case No. 01-10780 (DAB), the United States Small Business Administration hereby revokes the license of Prospect Street NYC Discovery Fund, L.P., a Delaware Limited Partnership, to function as a small business investment company under the Small Business Investment Company License No. 02/72-0561 issued to Prospect Street NYC Discovery Fund, L.P. on May 23, 1995 and said license is hereby declared null and void as of July 9, 2005.

Small Business Administration.

Dated: June 21, 2005.
Jaime A. Guzmán-Fournier,
Associate Administrator for Investment.

[FR Doc. 05-12671 Filed 6-24-05; 8:45 am]

BILLING CODE 8025-01-P